DEPARTMENT OF COMMERCE

International Trade Administration

[A-427-001]

Sorbitol From France: Notice of Rescission of Antidumping Duty Administrative Review

AGENCY: Import Administration, International Trade Administration, Department of Commerce.

SUMMARY: On May 28, 2010, the U.S. Department of Commerce (the Department) published a notice of initiation of an administrative review of the antidumping duty order on sorbitol from France. The review covers one producer/exporter of sorbitol, Syral S.A.S. (Syral). Based on the withdrawal of the requests for review from Archer Daniels Midland Company (ADM) and Corn Products International (CP), domestic producers of sorbitol, we are now rescinding this administrative review in full.

DATES: Effective Date: August 18, 2010

FOR FURTHER INFORMATION CONTACT: Steve Bezirganian or Robert James, AD/CVD Operations, Office 7, Import Administration, International Trade Administration, U.S. Department of Commerce, 14th Street and Constitution Avenue, NW., Washington, DC 20230; telephone: (202) 482-1131 or (202) 482-0649, respectively.

SUPPLEMENTARY INFORMATION:

Background

On April 1, 2010, the Department published in the Federal Register the notice of opportunity to request an administrative review of the antidumping duty order on sorbitol from France for the period April 1, 2009, through March 31, 2010. See Antidumping or Countervailing Duty Order, Finding, or Suspended Investigation; Opportunity to Request Administrative Review, 75 FR 16426 (April 1, 2010). On April 5, 2010, the Department received a request from CP that the Department conduct an administrative review covering Syral. On April 30, 2010, the Department received a request from ADM that the Department conduct an administrative review covering Syral. On May 28, 2010, the Department published in the Federal Register the notice of initiation of the 2009-2010 administrative review of sorbitol from France. See Initiation of Antidumping and Countervailing Duty Administrative Reviews, 75 FR 29976 (May 28, 2010).

On June 3, 2010, the Department issued its antidumping duty questionnaire to Syral. On June 25, 2010, CP withdrew its request for review of Syral. On August 2, 2010, ADM withdrew its request for review of Syral.

Period of Review

The period of review (POR) at the time the review was initiated was April 1, 2009, through March 31, 2010. Subsequently, the antidumping duty order on sorbitol from France was revoked, effective August 5, 2009. See Revocation of Antidumping Duty Order on Sorbitol from France, 75 FR 42380 (July 21, 2010). Consequently, the POR for the administrative review became April 1, 2009, through August 4, 2009.

Scope of the Order

The products under review are shipments of crystalline sorbitol. Crystalline sorbitol is a polyol produced by the catalytic hydrogenation of sugars (glucose). It is used in the production of sugarless gum, candy, groceries, and pharmaceuticals. The above-described sorbitol is currently classifiable under item 2905.44.00 of the Harmonized Tariff Schedule of the United States (HTSUS). Although the HTSUS subheading is provided for convenience and customs purposes, the written description remains dispositive.

Rescission of Antidumping Administrative Review

19 CFR 351.213(d)(1) of the Department's regulations provides that the Department will rescind an administrative review if the party that requested the review withdraws its request for review within 90 days of the date of publication of the notice of initiation of the requested review, or withdraws at a later date if the Department determines it is reasonable to extend the time limit for withdrawing the request. CP and ADM withdrew their requests for review of Syral within the 90-day deadline.

Assessment Instructions

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: August 10, 2010.
Edward C. Yang,
Acting Deputy Assistant Secretary for Antidumping and Countervailing Duty Operations.

[FR Doc. 2010-20495 Filed 8-17-10; 8:45 am]

BILLING CODE 3510-DS-P